NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on December 5-7, 2002, in Conference Room T-2B3, 11545 Rockville Pike, Rockville, Maryland. The date of this meeting was previously published in the Federal Register on Monday, November 26, 2001 (66 FR 59034).

Thursday, Decmeber 5, 2002

8:30 a.m.-8:35 a.m.: Opening Statement by the ACRS Chairman (Open)—The ACRS Chairman will make opening remarks regarding the conduct of the meeting.

8:35 a.m.-10:15 a.m.: Davis-Besse Lessons Learned Task Force Report and Status of NRC Oversight (0350) Panel's Investigation of the Davis-Besse Event (Open)—The Committee will hear a presentation by and hold discussions with the Chairman of the NRC Oversight (0350) Panel regarding the status of investigation of the Panel on the Davis-Besse reactor vessel head degradation. The Committee will also hear presentations by and hold discussions with representatives of the NRC staff and industry regarding the findings, conclusions, and recommendations of the Davis-Besse Task Force on the reactor vessel head degradation event at the Davis-Besse Nuclear Power Station.

10:30 a.m.-12 Noon: Framatome ANP, INC., S-RELAP5 Realistic Large-Break (LB) LOCA Code (Open/Closed)—The Committee will hear presentations by and hold discussions with representatives of Framatome ANP, INC., and the NRC staff regarding the S-RELAP5 Realistic large-break LOCA Code and the associated NRC staff's draft Safety Evaluation Report.

[Note: A portion of this session may be closed to discuss Framatome ANP, INC. proprietary information.]

1:30 p.m.-2:15 p.m.: Meeting with Mr. Lawrence Williams, NII, United Kingdom (Open)—The Committee will hold discussions with Mr. Williams, NII, United Kingdom on items of mutual interest.

2:15 p.m.-3:45 p.m.: North Anna and Surry License Renewal Application (Open)—The Committee will hear presentations by and hold discussions with representatives of the NRC staff and Dominion regarding the license renewal application for the North Anna and Surry Nuclear Power Stations and the associated NRC staff's final Safety Evaluation Report.

4 p.m.-5:15 p.m.: Status of the Development of the Review Standard for Power Uprates (Open)—The Committee will hear presentations by and hold discussions with representatives of the NRC staff regarding the status of the development of the review standard for core power uprates.

5:15 p.m.-5:30 p.m.: Subcommittee Report (Open)—The Chairman of the Thermal-Hydraulic Phenomena Subcommittee will provide a report to the Committee regarding the Rod Bundle Heat Transfer Experimental Program.

5:45 p.m.-7:15 p.m.: Proposed ACRS Reports (Open)—The Committee will discuss proposed ACRS reports on matters considered during this meeting. In addition, the Committee will discuss a draft annual ACRS report to the Commission on the NRC Safety Research Program.

Friday, December 6, 2002

8:30 a.m.-8:35 a.m.: Opening Remarks by the ACRS Chairman (Open)—The ACRS Chairman will make opening remarks regarding the conduct of the meeting.

8:35 a.m.-9 a.m.: Safeguards and Security Activities (Open)—The Committee will discuss a proposed ACRS plan for reviewing safeguards and security matters.

9 a.m.-9:45 a.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

9:45 a.m.-10 a.m.: Reconciliation of ACRS Comments and Recommendations (Open)—The Committee will discuss the responses from the NRC Executive Director for Operations (EDO) to comments and recommendations included in recent ACRS reports and letters. The EDO responses are expected to be made available to the Committee prior to the meeting.

10:15 a.m.-12:30 p.m.: Proposed Options for Resolving Policy Issues for Future Non-Light Water Reactors (Open)—The Committee will hear presentations by and hold discussions with representatives of the NRC staff regarding the proposed options for resolving policy issues related to future non-light water reactors.

1:30 p.m.-3:15 p.m.: Draft Final ANS External Events Methodology Standard (Open)—The Committee will hear presentations by and hold discussions with representatives of the NRC staff and the American Nuclear Society (ANS) regarding the draft final ANS Standard on External Events Methodology.

3:30 p.m.-4 p.m.: Election of ACRS Officers (Open)—The Committee will elect Chairman and Vice Chairman for the ACRS and Member-at-Large for the Planning and Procedures Subcommittee for CY 2003.

4 p.m.-7 p.m.: Proposed ACRS Reports (Open)—The Committee will discuss proposed ACRS reports.

Saturday, December 7, 2002

8:30 a.m.-12 Noon.: Proposed ACRS Reports (Open)—The Committee will continue to discuss proposed ACRS reports.

12-12:30 p.m.: Miscellaneous (Open)—The Committee will discuss matters related to the conduct of Committee activities and matters and specific issues that were not completed during previous meetings, as time and availability of information permit.

Procedures for the conduct of and participation in ACRS meetings were published in the Federal Register on October 11, 2002 (67 FR 63460). In accordance with those procedures, oral or written views may be presented by members of the public, including representatives of the nuclear industry. Electronic recordings will be permitted only during the open portions of the meeting. Persons desiring to make oral statements should notify the Associate Director for Technical Support named below five days before the meeting, if possible, so that appropriate arrangements can be made to allow necessary time during the meeting for such statements. Use of still, motion picture, and television cameras during the meeting may be limited to selected portions of the meeting as determined by the Chairman. Information regarding the time to be set aside for this purpose may be obtained by contacting the Associate Director prior to the meeting. In view of the possibility that the schedule for ACRS meetings may be adjusted by the Chairman as necessary to facilitate the conduct of the meeting, persons planning to attend should check with the Associate Director if such rescheduling would result in major inconvenience.

In accordance with Subsection 10(d) Pub. L. 92-463, I have determined that it is necessary to close a portion of this meeting noted above to discuss proprietary information per 5 U.S.C.552b(c)(4)

Further information regarding topics to be discussed, whether the meeting has been canceled or rescheduled, as well as the Chairman's ruling on requests for the opportunity to present oral statements and the time allotted therefor can be obtained by contacting Dr. Sher Bahadur, Associate Director for Technical Support (301-415-0138), between 7:30 a.m. and 4:15 p.m., EST.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., EST, at least 10 days before the meeting to ensure the availability of this service. Individuals or organizations requesting this service will be responsible for telephone line charges and for providing the equipment and facilities that they use to establish the videoteleconferencing link. The availability of videoteleconferencing services is not guaranteed.

The ACRS meeting dates for Calendar Year 2003 are provided below:

ACRS meeting No. | Meeting dates
| January 2003—No Meeting.
499 | February 6-8, 2003.
500 | March 6-8, 2003.
501 | April 10-12, 2003.
502 | May 8-10, 2003.
503 | June 11-13, 2003.
504 | July 9-11, 2003. August 2003—No Meeting.
505 | September 11-13, 2003.
506 | October 2-4, 2003.
507 | November 6-8, 2003.
508 | December 4-6, 2003.

.

Dated: November 14, 2002.
Andrew L. Bates,
Advisory Committee Management Officer.

[FR Doc. 02-29488 Filed 11-19-02; 8:45 am]

BILLING CODE 7590-01-P